DEPARTMENT OF ENERGY

Federal Energy Regulatory Commission

Combined Notice of Filings #1

Take notice that the Commission received the following electric corporate filings:

Docket Numbers: EC22-45-000.

Applicants: TransAlta Energy Marketing (U.S.) Inc., TransAlta Energy Marketing Corp., TransAlta Centralia Generation LLC, TransAlta Wyoming Wind LLC, Lakeswind Power Partners, LLC, Big Level Wind LLC, Eagle Canada Common Holdings LP, BIF IV Eagle NR Carry LP.

Description: Joint Application for Authorization Under Section 203 of the Federal Power Act of TransAlta Energy Marketing (U.S.) Inc, et al.

Filed Date: 2/28/22.

Accession Number: 20220228-5397.

Comment Date: 5 p.m. ET 3/21/22.

Take notice that the Commission received the following exempt wholesale generator filings:

Docket Numbers: EG22-60-000.

Applicants: Number Three Wind LLC.

Description: Notice of Self-Certification of Exempt Wholesale Generator Status of Number Three Wind LLC.

Filed Date: 2/28/22.

Accession Number: 20220228-5405.

Comment Date: 5 p.m. ET 3/21/22.

Take notice that the Commission received the following Complaints and Compliance filings in EL Dockets:

Docket Numbers: EL21-68-000.

Applicants: Nebraska Public Power District.

Description: Request for Remedial Relief Under Federal Power Act Section 309 Request of the Nebraska Public Power District.

Filed Date: 4/19/21.

Accession Number: 20210419-5325.

Comment Date: 5 p.m. ET 3/22/22.

Docket Numbers: EL21-68-000.

Applicants: Nebraska Public Power District.

Description: Errata to the April 19, 2021, Request for Remedial Relief Under Federal Power Act Section 309 of the Nebraska Public Power District.

Filed Date: 4/30/21.

Accession Number: 20210430-5687.

Comment Date: 5 p.m. ET 3/22/22.

Take notice that the Commission received the following electric rate filings:

Docket Numbers: ER11-4351-013.

Applicants: Pinnacle Wind, LLC.

Description: Notice of Change in Status of Pinnacle Wind, LLC, et al.

Filed Date: 2/25/22.

Accession Number: 20220225-5270.

Comment Date: 5 p.m. ET 3/18/22.

Docket Numbers: ER19-2019-003.

Applicants: Tucson Electric Power Company.

Description: Tucson Electric Power Company submits Annual Informational Filing with 2020 Annual Update of its Transmission Formula Rate.

Filed Date: 2/28/22.

Accession Number: 20220228-5375.

Comment Date: 5 p.m. ET 3/21/22.

Docket Numbers: ER21-669-006.

Applicants: Morongo Transmission LLC.

Description: Compliance filing: Morongo Transmission Compliance Filing in Docket ER21-669 to be effective 5/15/2021.

Filed Date: 2/28/22.

Accession Number: 20220228-5253.

Comment Date: 5 p.m. ET 3/21/22.

Docket Numbers: ER21-669-007.

Applicants: Morongo Transmission LLC.

Description: Compliance filing: Amendment of Compliance Filing in Docket ER21-669 to be effective 5/15/2021.

Filed Date: 3/1/22.

Accession Number: 20220301-5001.

Comment Date: 5 p.m. ET 3/22/22.

Docket Numbers: ER21-1923-001.

Applicants: Black Rock Wind Force, LLC.

Description: Notice of Change in Status of Black Rock Wind Force, LLC.

Filed Date: 2/25/22.

Accession Number: 20220225-5265.

Comment Date: 5 p.m. ET 3/18/22.

Docket Numbers: ER22-511-001.

Applicants: Morongo Transmission LLC.

Description: Compliance filing: Compliance Filing in Docket ER22-511 to be effective 1/1/2022.

Filed Date: 2/28/22.

Accession Number: 20220228-5248.

Comment Date: 5 p.m. ET 3/21/22.

Docket Numbers: ER22-958-000.

Applicants: Entergy Services, LLC, System Energy Resources, Inc.

Description: Formal Challenge of Retail Regulators to January 31, 2022 Annual Informational Filing by System Energy Resources, Inc.

Filed Date: 2/28/22.

Accession Number: 20220228-5376.

Comment Date: 5 p.m. ET 3/30/22.

Docket Numbers: ER22-1131-000.

Applicants: New England Power Pool Participants Committee.

Description: § 205(d) Rate Filing: March 2022 Membership Filing to be effective 3/1/2022.

Filed Date: 3/1/22.

Accession Number: 20220301-5000.

Comment Date: 5 p.m. ET 3/22/22.

Docket Numbers: ER22-1132-000.

Applicants: PJM Interconnection, L.L.C.

Description: Tariff Amendment: Notice of Cancellation of WMPA, SA No. 3188; Queue No. W3-135 to be effective 3/1/2022.

Filed Date: 3/1/22.

Accession Number: 20220301-5031.

Comment Date: 5 p.m. ET 3/22/22.

Docket Numbers: ER22-1133-000.

Applicants: Black Hills Power, Inc.

Description: Informational Filing of [2022] Formula Rate Annual Update of Black Hills Power, Inc.

Filed Date: 2/25/22.

Accession Number: 20220225-5269.

Comment Date: 5 p.m. ET 3/18/22.

Docket Numbers: ER22-1134-000.

Applicants: Alabama Power Company, Georgia Power Company, Mississippi Power Company.

Description: § 205(d) Rate Filing: Alabama Power Company submits tariff filing per 35.13(a)(2)(iii): Pine Gate Renewables (Fable Solar) LGIA Filing to be effective 2/14/2022.

Filed Date: 3/1/22.

Accession Number: 20220301-5130.

Comment Date: 5 p.m. ET 3/22/22.

Docket Numbers: ER22-1135-000.

Applicants: Alabama Power Company, Georgia Power Company, Mississippi Power Company.

Description: § 205(d) Rate Filing: Alabama Power Company submits tariff filing per 35.13(a)(2)(iii): Pine Gate Renewables (Happy Lake Solar) LGIA Filing to be effective 2/14/2022.

Filed Date: 3/1/22.

Accession Number: 20220301-5135.

Comment Date: 5 p.m. ET 3/22/22.

Docket Numbers: ER22-1136-000.

Applicants: Sac County Wind, LLC.

Description: Baseline eTariff Filing: Reactive Power Compensation Filing to be effective 4/30/2022.

Filed Date: 3/1/22.

Accession Number: 20220301-5153.

Comment Date: 5 p.m. ET 3/22/22.

Docket Numbers: ER22-1137-000.

Applicants: PJM Interconnection, L.L.C.

Description: Tariff Amendment: Notice of Cancellation of ICSA, SA No. 5559; Queue No. AE1-142 to be effective 11/3/2021.

Filed Date: 3/1/22.

Accession Number: 20220301-5183.

Comment Date: 5 p.m. ET 3/22/22.

Docket Numbers: ER22-1139-000.

Applicants: Flat Ridge 2 Wind Energy LLC.

Description: § 205(d) Rate Filing: Certificate of Concurrence to Common Facilities Agreement to be effective 4/2/2022.

Filed Date: 3/1/22.

Accession Number: 20220301-5207.

Comment Date: 5 p.m. ET 3/22/22.

Take notice that the Commission received the following electric securities filings:

Docket Numbers: ES22-30-000.

Applicants: Xcel Energy Southwest Transmission Company, LLC.

Description: Application Under Section 204 of the Federal Power Act for Authorization to Issue Securities of Xcel Energy Southwest Transmission Company, LLC.

Filed Date: 3/1/22.

Accession Number: 20220301-5241.

Comment Date: 5 p.m. ET 3/22/22.

Docket Numbers: ES22-31-000.

Applicants: Xcel Energy Transmission Development Company, LLC.

Description: Application Under Section 204 of the Federal Power Act for Authorization to Issue Securities of Xcel Energy Transmission Development Company, LLC.

Filed Date: 3/1/22.

Accession Number: 20220301-5251.

Comment Date: 5 p.m. ET 3/22/22.

Take notice that the Commission received the following qualifying facility filings:

Docket Numbers: QF21-222-002.

Applicants: Board of Trustees of Michigan State University.

Description: Form 556 of Board of Trustees of Michigan State University.

Filed Date: 2/24/22.

Accession Number: 20220224-5094.

Comment Date: 5 p.m. ET 3/28/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2022.
Debbie-Anne A. Reese,
Deputy Secretary.

[FR Doc. 2022-04726 Filed 3-4-22; 8:45 am]

BILLING CODE 6717-01-P